ENVIRONMENTAL PROTECTION AGENCY

[FRL-7829-1]

Proposed Administrative Settlement Pursuant to the Comprehensive Environmental Response, Compensation and Liability Act (“CERCLA”); Pacific Sound Resources (PSR); West Seattle, WA

AGENCY: Environmental Protection Agency.

ACTION: Request for public comment.

SUMMARY: In accordance with the Comprehensive Environmental Response, Compensation and Liability Act of 1980, as amended (“CERCLA”), 42 U.S.C. 9601, et seq., as amended, notice is hereby given that the Environmental Protection Agency (“EPA”), the State of Washington Department of Natural Resources (“DNR”) and the state of Washington (“State”) have negotiated a proposed Administrative Settlement (“Agreement”) pursuant to CERCLA, with respect to the Pacific Sound Resources (“PSR”) Superfund Site in West Seattle, Washington (“Site”).

The Site was listed on the Superfund National Priorities List (“NPL”) in 1994. Wood treating operations at the Site date from the early 1900s to 1994, under successive operators. Hazardous substances, primarily wood treating chemicals, were released at or from the Site. As a result, EPA has undertaken response actions under CERCLA, and will undertake response actions in the future, many of which have been or will be funded by PSR as a responsible party pursuant to a 1994 PSR Consent Decree. Outstanding EPA costs are approximately $3.5 million. Projected future remedial costs are estimated at approximately $8 million for remaining sediment remedial action, some or all of which may be funded by the PSR Decree. EPA estimates that the total response costs incurred and to be incurred at or in connection with the is approximately $45 million.

The Settling Parties' liability for the Site arises in most significant part from releases from three storage tanks on a small portion of the Site (approximately 2.3 acres of filled state-owned aquatic lands within the approximately 25-acre Site) leased to PSR by DNR. EPA has determined that these releases contributed a minor portion of the total of hazardous substances at the Site. The processing areas of the Site, including the transfer table pit and wood-treating retorts, were and are on PSR property and were where most releases occurred. DNR also leased submerged aquatic lands owned by the State to PSR on which PSR floated treated wood products which released comparatively small amounts of hazardous substances to water and sediment in Elliott Bay.

In September 2002, PSR and the Port of Seattle jointly sued the Settling Parties and other potentially responsible parties in contribution in the Superior Court for the State of Washington under the Model Toxics Control Act (“MTCA”), RCW 70.105D et seq. In May 2004, the Settling Parties conditionally agreed to settle these MTCA claims for $4.75 million to be divided equally between the MTCA Plaintiffs. EPA stands as the sole beneficiary pursuant to the PSR Consent Decree of the settlement proceeds which would go to PSR. This MTCA claims settlement is conditioned on this proposed Agreement resolving the outstanding CERCLA claims by EPA against the Settling Parties.

By this proposed Agreement, Settling Parties shall provide EPA with a maximum of 250,000 cubic yards of clean sediment (from navigation dredging of the Snohomish, Swinomish, or other rivers of the state of Washington) necessary for the sediment remedial action at the Site. Further, EPA has designed the sediment remedy for the Site to meet a 100-year earthquake or other disaster contingency, and has agreed that if such remedy failure occurs, it will be addressed by EPA rather than by an Agency or instrumentality of the state. Toward this end, DNR shall also provide such quantity of clean sediment as EPA may require, not to exceed a maximum of 250,000 cubic yards, to address such a remedy failure contingency, subject to sediment availability. Settling Parties also agree that EPA may install, maintain and monitor the remedial action at the Site as EPA deems necessary, including the installation and maintenance of additional monitoring wells beyond those presently on Site. DNR and the State shall receive legal protection for cleanup liability at the Site in the form of a covenant not to sue from EPA.

DATES: Comments must be provided by November 29, 2004.

ADDRESSES: Comments should be addressed to Sally Thomas, Remedial Project Manager, Environmental Protection Agency, 1200 Sixth Avenue, M/S-ECL-110, Seattle, Washington, 98101, and refer to PSR Superfund Site, Proposed Agreement with DNR and the state of Washington.

FOR FURTHER INFORMATION CONTACT: Sally Thomas at 206-553-2102.

SUPPLEMENTARY INFORMATION: The Environmental Protection Agency will receive comments relating to the proposed Agreement for a period of thirty (30) days from the date of this publication.

Copies of the proposed Agreement may be examined at the EPA Region 10 offices at 1200 Sixth Avenue, Seattle, Washington, 98101. A Copy of the proposed Consent Order may be obtained by mail or in person from Ms. Thomas at the address listed above.

Dated: October 13, 2004.
Richard Albright,
Acting Regional Administrator, Region 10.

[FR Doc. 04-24244 Filed 10-28-04; 8:45 am]

BILLING CODE 6560-50-P